DEPARTMENT OF HOMELAND SECURITY

Federal Emergency Management Agency

44 CFR Part 65

[Docket No. FEMA-B-1001]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changed BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
California:
San Diego | City of Escondido (07-09-1345P) | July 24, 2008; July 31, 2008; San Diego Transcript | The Honorable Lori Holt Pfeiler, Mayor, City of Escondido, 201 North Broadway, Escondido, CA 92025 | November 28, 2008 | 060290
San Diego | City of San Diego (08-09-1015P) | July 10, 2008; July 17, 2008; San Diego Transcript | The Honorable Jerry Sanders, Mayor, City of San Diego, 202 C Street, 11th Floor, San Diego, CA 92101 | June 30, 2008 | 060295
Colorado:
Arapahoe | Unincorporated areas of Arapahoe County (08-08-0536P) | July 17, 2008; July 24, 2008; Aurora Sentinel | The Honorable Susan Beckman, Chair, Arapahoe County Board of Commissioners, 5334 South Prince Street, Littleton, CO 80166-0001 | November 21, 2008 | 080011
Arapahoe | City of Aurora (08-08-0536P) | July 17, 2008; July 24, 2008; Aurora Sentinel | The Honorable Ed Tauer, Mayor, City of Aurora, 15151 East Alameda Parkway, Aurora, CO 80012 | November 21, 2008 | 080002
Arapahoe | City of Centennial (08-08-0536P) | July 17, 2008; July 24, 2008; Aurora Sentinel | The Honorable Randy Pye, Mayor, City of Centennial, City of Centennial Office, 12503 East Euclid Drive, Suite 200, Centennial, CO 80111 | November 21, 2008 | 080315
Arapahoe | City of Cherry Hills Village (08-08-0414P) | July 4, 2008; July 11, 2008; The Englewood Herald | The Honorable Mike Wozniak, Mayor, City of Cherry Hills Village, 2450 East Quincy Avenue, Cherry Hills Village, CO 80113 | November 11, 2008 | 080013
Florida:
Charlotte | City of Punta Gorda (08-04-4040P) | July 17, 2008; July 24, 2008; Charlotte Sun | The Honorable Larry Friedman, Mayor, City of Punta Gorda, 326 West Marion Avenue, Punta Gorda, FL 33950 | June 30, 2008 | 120062
Monroe | Unincorporated areas of Monroe County (08-04-0421P) | July 10, 2008; July 17, 2008; Key West Citizen | The Honorable Mario DiGennaro, Mayor, Monroe County, Florida Keys Marathon Airport, 9400 Overseas Highway, Suite 210, Marathon, FL 33050 | June 30, 2008 | 125129
Monroe | Unincorporated areas of Monroe County (08-04-3795P) | July 10, 2008; July 17, 2008; Key West Citizen | The Honorable Mario DiGennaro, Mayor, Monroe County, Florida Keys Marathon Airport, 9400 Overseas Highway, Suite 210, Marathon, FL 33050 | June 30, 2008 | 125129
Polk | City of Winter Haven, (08-04-2591P) | July 17, 2008; July 24, 2008; Winter Haven News Chief | The Honorable Nathaniel Birdsong, Jr., Mayor, City of Winter Haven, 451 Third Street, Northwest, Winter Haven, FL 33881 | November 21, 2008 | 120271
Sumter | City of Wildwood (08-04-0921P) | July 17, 2008; July 24, 2008; Sumter County Times | The Honorable Ed Wolf, Mayor, City of Wildwood, 100 North Main Street, Wildwood, FL 34785 | June 30, 2008 | 120299
Georgia: Columbia | Unincorporated areas of Columbia County (08-04-0423P) | July 27, 2008; August 3, 2008; Columbia County News-Times | The Honorable Ron C. Cross, Chairman, Columbia County, Board of Commissioners, P.O. Box 498, Evans, GA 30809 | December 2, 2008 | 130059
Indiana: Marion | City of Indianapolis (08-05-2727P) | July 8, 2008; July 15, 2008; Indianapolis Star | The Honorable Gregory A. Ballard, Mayor, City of Indianapolis, 200 East Washington Street, Indianapolis, IN 46204 | June 25, 2008 | 180159
Kansas: Johnson | City of Overland Park (08-07-0908P) | July 9, 2008; July 16, 2008; The Overland Park Sun | The Honorable Carl R. Gerlach, Mayor, City of Overland Park, 10084 Hemlock Drive, Overland Park, KS 66212 | June 30, 2008 | 200174
Maryland:
Carroll | Unincorporated areas of Carroll County (08-03-0973P) | July 31, 2008; August 7, 2008; Carroll County Times | The Honorable Julia Gouge, Commissioner, Carroll County, 225 North Center Street, Westminster, MD 21157 | December 5, 2008 | 240015
Carroll | City of Westminster (08-03-0973P) | July 31, 2008; August 7, 2008; Carroll County Times | The Honorable Thomas K. Ferguson, Mayor, City of Westminster, 1838 Emerald Hill Lane, Westminster, MD 21158 | December 5, 2008 | 240018
Washington | Unincorporated areas of Washington County (08-03-0660P) | June 4, 2008; June 11, 2008; The Herald-Mail | The Honorable John Barr, President, Washington County Commissioners, 100 West Washington Street, Room 226, Hagerstown, MD 21740 | October 9, 2008 | 240070
Massachusetts: Suffolk | City of Boston (08-01-1020P) | July 24, 2008; July 31, 2008; Boston Herald | The Honorable Thomas Menino, Mayor, City of Boston, One City Hall Square, Boston, MA 02201 | December 5, 2008 | 250286
Michigan: Macomb | Township of Macomb (08-05-1867P) | July 16, 2008; July 23, 2008; The Macomb Daily and Daily Tribune | The Honorable John D. Brennan, Township Supervisor, Township of Macomb, 54111 Broughton Road, Macomb, MI 48042 | July 2, 2008 | 260445
Mississippi: DeSoto | City of Olive Branch (08-04-2647P) | July 31, 2008; August 7, 2008; DeSoto Times Today | The Honorable Samuel P. Rikard, Mayor, City of Olive Branch, 9200 Pigeon Roost Road, Olive Branch, MS 38654 | July 18, 2008 | 280286
New Mexico:
Sandoval | Town of Bernalillo (08-06-0693P) | July 17, 2008; July 24, 2008; Santa Fe New Mexican | The Honorable Patricia A. Chavez, Mayor, Town of Bernalillo, P.O. Box 638, Bernalillo, NM 87004 | November 21, 2008 | 350056
Sandoval | City of Rio Rancho (08-06-0693P) | July 17, 2008; July 24, 2008; Santa Fe New Mexican | The Honorable Thomas E. Swisstack, Mayor, City of Rio Rancho, 3200 Civic Center Circle, Northeast, Rio Rancho, NM 87144 | November 21, 2008 | 350146
Sandoval | Unincorporated areas of Sandoval County (08-06-0693P) | July 17, 2008; July 24, 2008; Santa Fe New Mexican | The Honorable Joshua Madalena, Chairman, Sandoval County Commission, Sandoval County Courthouse, 711 Camino Del Pueblo, Bernalillo, NM 87004 | November 21, 2008 | 350055
New York: New York | City of New York (08-02-0948P) | July 17, 2008; July 24, 2008; New York Times | The Honorable Michael R. Bloomberg, Mayor, City of New York, One Centre Street, New York, NY 10007 | September 29, 2008 | 360497
Oklahoma:
Oklahoma | City of Edmond (08-06-0227P) | July 16, 2008; July 23, 2008; The Edmond Sun | The Honorable Daniel R. O'Neil, Mayor, City of Edmond, P.O. Box 2970, Edmond, OK 73083 | July 30, 2008 | 400252
Tulsa | City of Tulsa (08-06-1820P) | June 26, 2008; July 3, 2008; Tulsa World | The Honorable Kathryn L. Taylor, Mayor, City of Tulsa, 200 Civic Center, Tulsa, OK 74103 | October 31, 2008 | 405381
South Dakota: Pennington | City of Rapid City (08-08-0211P) | June 25, 2008; July 2, 2008; Hill City Prevailer-News | The Honorable Alan Hanks, Mayor, City of Rapid City, 300 Sixth Street, Rapid City, SD 57701 | October 30, 2008 | 465420
Texas:
Harris | Unincorporated areas of Harris County (08-06-0795P) | July 2, 2008; July 9, 2008; Houston Chronicle | The Honorable Ed Emmett, Harris County Judge, 1001 Preston Street, Suite 911, Houston, TX 77002 | June 25, 2008 | 480287
Tarrant | City of Grapevine (07-06-0439P) | May 30, 2008; June 6, 2008; Grapevine Courier | The Honorable William D. Tate, Mayor, City of Grapevine, P.O. Box 95104, Grapevine, TX 76099 | September 4, 2008 | 480598
Utah: Uintah | Unincorporated areas of Uintah County (08-08-0264P) | July 22, 2008; July 29, 2008; Uintah Basin Standard | The Honorable Mike McKee, Chairman, Uintah County, Board of Commissioners, 152 East 100 North, Vernal, UT 84078 | November 26, 2008 | 490147
Virginia:
Frederick | Unincorporated areas of Frederick County (08-03-1051P) | July 28, 2008; August 4, 2008; The Winchester Star | The Honorable Richard C. Shickle, Chairman At-Large, Frederick County, Board of Supervisors, 292 Green Spring Road, Winchester, VA 22603 | December 2, 2008 | 510063
Frederick | City of Winchester (08-03-1051P) | July 28, 2008; August 4, 2008; The Winchester Star | The Honorable Elizabeth Minor, Mayor, City of Winchester, 231 East Piccadilly Street, Suite 310, Winchester, VA 22601 | December 2, 2008 | 510173
Independent City | City of Winchester (08-03-0972P) | July 3, 2008; July 10, 2008; The Winchester Star | The Honorable Elizabeth Minor, Mayor, City of Winchester, 231 East Piccadilly Street, Suite 310, Winchester, VA 22601 | October 31, 2008 | 510173

(Catalog of Federal Domestic Assistance No. 97.022, “Flood Insurance.”)

Dated: August 26, 2008.
Michael K. Buckley,
Deputy Assistant Administrator for Mitigation, Department of Homeland Security, Federal Emergency Management Agency.

[FR Doc. E8-20825 Filed 9-9-08; 8:45 am]

BILLING CODE 9110-12-P